DEPARTMENT OF TRANSPORTATION

Federal Aviation Administration

14 CFR Part 39

[Docket No. 2001-NM-187-AD; Amendment 39-13293; AD 2003-18-02]

RIN 2120-AA64

Airworthiness Directives; Airbus Model A330 and A340 Series Airplanes

AGENCY: Federal Aviation Administration, DOT.

ACTION: Final rule.

SUMMARY: This amendment adopts a new airworthiness directive (AD), applicable to certain Airbus Model A330 and A340 series airplanes, that requires, among other actions, a detailed inspection of the rudder travel limitation unit for proper adjustment, measurement of the desynchronization of rudder servo-controls, installation of rigging placards for rudder servo-controls, and follow-on and corrective actions if necessary. This action is necessary to prevent desynchronization of the rudder servo-controls, which could result in high load factors on the rudder servo-controls, and consequent reduced structural integrity of the attachment fittings for the rudder servo-controls. This action is intended to address the identified unsafe condition.

DATES: Effective October 10, 2003.

The incorporation by reference of certain publications listed in the regulations is approved by the Director of the Federal Register as of October 10, 2003.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A330 and A340 series airplanes was published in the Federal Register on May 29, 2003 (68 FR 31991). That action proposed to require, among other actions, a detailed inspection of the rudder travel limitation unit for proper adjustment, measurement of the desynchronization of rudder servo-controls, installation of rigging placards for rudder servo-controls, and follow-on and corrective actions if necessary.

Interested persons have been afforded an opportunity to participate in the making of this amendment. Due consideration has been given to the comments received.

Request To Extend Compliance Time

Two commenters request that the compliance time of the proposed AD be extended from 16 months to 18 months. One of the commenters is the operator of the nine U.S.-registered Airbus Model A330 airplanes affected by the proposed AD. Extension of the compliance time to 18 months would match the Airbus C-check interval. The second commenter supports the comments of the first commenter and offers no additional comment.

The FAA does not agree with the commenters' request to extend the compliance time. The operator has completed the required inspection on five of its nine airplanes. The operator plans to inspect the remaining four airplanes in its fleet at the next C-check, scheduled to begin in late 2003. Of the five airplanes already inspected, the operator indicates that it has found two airplanes with desynchronized servo-controls. Based upon those inspection results the FAA finds that it may be possible for the remaining airplanes to also have desynchronized servo-controls. Such desynchronized servo-controls could cause cracks on the rudder servo-control bearing and attachment, leading to reduced structural integrity of the rudder servo-control attachment fitting. Therefore, we do not consider that an extension is appropriate. Operators always have the option to request approval of an alternative method of compliance if it provides an equivalent level of safety. No change to the final rule is necessary regarding this issue.

Conclusion

After careful review of the available data, including the comments noted above, the FAA has determined that air safety and the public interest require the adoption of the rule as proposed.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

The FAA estimates that 9 Airbus Model A330 series airplanes of U.S. registry will be affected by this AD, that it will take approximately 6 work hours per airplane to accomplish the required inspection and measurement, and 1 work hour per airplane to accomplish the required installation of the rigging placards, and that the average labor rate is $65 per work hour. Required rigging placards will be provided to the operators at no cost. Based on these figures, the cost impact of the AD on U.S. operators is estimated to be $4,095, or $455 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Airbus Model A340 series airplanes on the U.S. Register. However, should an affected airplane be imported and placed on the U.S. Register in the future, it would require 6 work hours per airplane to accomplish the required inspection and measurement, and 1 work hour per airplane to accomplish the required installation of the rigging placards, at an average labor rate of $65 per work hour. Required placards would be provided to the operators at no cost. Based on these figures, the cost impact of the AD for Model A340 operators would be $455 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-18-02 Airbus: Amendment 39-13293. Docket 2001-NM-187-AD.

Applicability: Model A330 and A340 series airplanes, certificated in any category; except those airplanes modified in production in accordance with Airbus Modification 48110.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent desynchronization of the rudder servo-controls, which could result in high load factors on the rudder servo-controls, and consequent reduced structural integrity of the attachment fittings for the rudder servo-controls, accomplish the following:

Inspection of Rudder Travel Limitation Unit

(a) Within 16 months after the effective date of this AD: Perform a one-time detailed inspection of the rudder travel limitation unit (RTLU) (including installing rigging pins on the bellcrank and the right and left input levers) for proper adjustment, per the Accomplishment Instructions specified in Airbus Service Bulletin A330-27-3084 (for Model A330 series airplanes); or Airbus Service Bulletin A340-27-4088 (for Model A340 series airplanes); both dated March 28, 2001; as applicable. Although the service bulletins reference a reporting requirement, such reporting is not required by this AD.

(1) If it is possible to install rigging pins on both input levers, the RTLU is properly adjusted and no further action is required by this paragraph.

(2) If it is not possible to install the rigging pins on either input lever, before further flight, adjust the length of the appropriate adjustable rod, per the Accomplishment Instructions specified in the applicable service bulletin.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Measurement of Rudder Servo-Controls Desynchronization and Corrective Action if Necessary

(b) Within 16 months after the effective date of this AD: Measure the desynchronization value (value D) of the rudder servo-controls and, depending on the measurement, before further flight, perform the applicable corrective actions (e.g., replacement and/or adjustment of the spring rod and/or the rudder servo-controls); per the Accomplishment Instructions specified in Airbus Service Bulletin A330-27-3084 (for Model A330 series airplanes); or Airbus Service Bulletin A340-27-4088 (for Model A340 series airplanes); both dated March 28, 2001; as applicable. Operators should note that although these service bulletins request that desynchronized rudder servo-controls with the highest load factors be returned to the manufacturer, that action is not required by this AD.

(c) If any rudder servo-control was replaced per the requirements of paragraph (b) of this AD, do paragraphs (c)(1) and (c)(2) of this AD.

(1) Before further flight, perform either a detailed inspection or a high frequency eddy current (HFEC) inspection for cracks in the attachment fittings of the desynchronized rudder servo-controls, and perform the applicable follow-on and corrective actions (e.g., cold expansion of affected fastener holes, drilling/reaming of affected holes, and rotating probe inspections), per the Accomplishment Instructions specified in Airbus Service Bulletin A330-55-3028 (for Model A330 series airplanes); or Airbus Service Bulletin A340-55-4026 (for Model A340 series airplanes); both excluding Appendix 01; both dated May 28, 2001; as applicable; except where the service bulletin specifies to contact the manufacturer for repair instructions, repair per a method approved by the Manager, International Branch, ANM-116, FAA.

(2) Repeat the inspection required by paragraph (c)(1) of this AD at the following intervals:

(i) If the immediately preceding inspection was conducted using detailed inspection techniques, conduct the next inspection within 300 flight cycles; or

(ii) If the immediately preceding inspection was conducted using HFEC techniques, conduct the next inspection within 6,000 flight cycles.

Concurrent Requirements

(d) Concurrently with the requirements of paragraphs (a) and (b) of this AD, install appropriate rigging placards for the rudder servo-controls, per Airbus Service Bulletin A330-27-3082 (for Model A330 series airplanes); or Airbus Service Bulletin A340-27-4086 (for Model A340 series airplanes); both dated March 28, 2001; as applicable.

Alternative Methods of Compliance

(e) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permit

(f) Special flight permits may be issued in accordance with §§ 21.197 and 21.199 of the Federal Aviation Regulations (14 CFR 21.197 and 21.199) to operate the airplane to a location where the requirements of this AD can be accomplished.

Incorporation by Reference

(g) The actions shall be done in accordance with Airbus Service Bulletin A330-27-3082, dated March 28, 2001; Airbus Service Bulletin A330-27-3084, dated March 28, 2001; Airbus Service Bulletin A330-55-3028, excluding Appendix 01, dated May 28, 2001; Airbus Service Bulletin A340-27-4086, dated March 28, 2001; Airbus Service Bulletin A340-27-4088, dated March 28, 2001; and Airbus Service Bulletin A340-55-4026, excluding Appendix 01, dated May 28, 2001; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directives 2001-156(B) and 2001-157(B), both dated May 2, 2001.

Effective Date

(h) This amendment becomes effective on October 10, 2003.

Issued in Renton, Washington, on August 27, 2003.
Neil D. Schalekamp,
Acting Manager, Transport Airplane Directorate, Aircraft Certification Service.

[FR Doc. 03-22495 Filed 9-4-03; 8:45 am]

BILLING CODE 4910-13-P